DEPARTMENT OF THE INTERIOR

Bureau of Land Management

[LLCA942000 L57000000.BX0000 13X L5017AR]

Filing of Plats of Survey: California

AGENCY: Bureau of Land Management, Interior.

ACTION: Notice.

SUMMARY: The plats of survey of lands described below are scheduled to be officially filed in the Bureau of Land Management, California State Office, Sacramento, California.

DATES: September 8, 2015.

ADDRESSES: A copy of the plats may be obtained from the California State Office, Bureau of Land Management, 2800 Cottage Way, Sacramento, California 95825, upon required payment.

FOR FURTHER INFORMATION CONTACT: Chief, Branch of Geographic Services, Bureau of Land Management, California State Office, 2800 Cottage Way W-1623, Sacramento, California 95825, (916) 978-4310. Persons who use a telecommunications device for the deaf (TDD) may call the Federal Information Relay Service (FIRS) at 1-(800)-877-8339 to contact the above individual during normal business hours. The FIRS is available 24 hours a day, 7 days a week, to leave a message or question with the above individual. You will receive a reply during normal business hours.

SUPPLEMENTARY INFORMATION: A person or party who wishes to protest a survey must file a notice that they wish to protest with the Chief, Branch of Geographic Services. A statement of reasons for a protest may be filed with the notice of protest and must be filed with the Chief, Branch of Geographic Services within thirty days after the protest is filed. If a protest against the survey is received prior to the date of official filing, the filing will be stayed pending consideration of the protest. A plat will not be officially filed until the day after all protests have been dismissed or otherwise resolved. Before including your address, phone number, email address, or other personal identifying information in your comment, you should be aware that your entire comment—including your personal identifying information—may be made publicly available at any time. While you can ask us in your comment to withhold your personal identifying information from public review, we cannot guarantee that we will be able to do so.

Humboldt Meridian, California

T. 11 N., R. 3 E., supplemental plat of the S ½ of the SE ¼ of section 7, accepted July 29, 2015.

Mount Diablo Meridian, California

T. 23 N., R. 13 W., metes-and-bounds survey of lots in section 36, accepted July 21, 2015.

T. 17 S., R. 8 E., dependent resurvey and subdivision of section 6, accepted July 28, 2015.

San Bernardino Meridian, California

T. 9 N., R. 23 E., supplemental plat of the NW ¼ of the NE ¼ of section 31, accepted July 14, 2015.

T. 9 S., R. 14 E., supplemental plat of the SW ¼ of section 32, accepted July 15, 2015.

T. 2 N., R. 9 E., dependent resurvey and subdivision of section 34, accepted July 21, 2015.

Authority: 43 U.S.C., Chapter 3.

Dated: July 31, 2015.
Lance J. Bishop,
Chief Cadastral Surveyor, California.

[FR Doc. 2015-19463 Filed 8-6-15; 8:45 am]

BILLING CODE 4310-40-P